DEPARTMENT OF COMMERCE

National Oceanic and Atmospheric Administration

[RTID 0648-XE242]

Marine Mammals; File No. 28184

AGENCY: National Marine Fisheries Service (NMFS), National Oceanic and Atmospheric Administration (NOAA), Commerce.

ACTION: Notice; receipt of application.

SUMMARY: Notice is hereby given that Dan Engelhaupt, Ph.D., HDR, 4173 Ewell Road, Virginia Beach, VA 23455, has applied in due form for a permit to conduct research on marine mammals.

DATES: Written comments must be received on or before September 30, 2024.

ADDRESSES: The application and related documents are available for review by selecting “Records Open for Public Comment” from the “Features” box on the Applications and Permits for Protected Species home page, https://apps.nmfs.noaa.gov, and then selecting File No. 28184 from the list of available applications. These documents are also available upon written request via email to NMFS.Pr1Comments@noaa.gov.

Written comments on this application should be submitted via email to NMFS.Pr1Comments@noaa.gov. Please include File No. 28184 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Courtney Smith, Ph.D., (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to conduct research in the North Pacific and North Atlantic Oceans including the Gulf of Mexico. The objectives are to study presence, movement patterns, behaviors, and population structure for marine mammals occupying waters shared with the U.S. Navy activities and other anthropogenic activities. Up to 61 species of marine mammals may be taken including the following ESA-listed species: blue (Balaenoptera musculus), bowhead (Balaena mysticetus), false killer (Pseudorca crassidens; Main Hawaiian Islands Insular distinct population segment [DPS]), fin (Balaenoptera physalus), gray (Eschrichtius robustus; Western North Pacific DPS), humpback (Megaptera novaeangliae; Central America, Western North Pacific, and Mexico DPSs), killer (Orcinus orca; Southern Resident DPS), North Atlantic right (Eubalaena glacialis), North Pacific right (Eubalaena japonica), Rice's (Balaenoptera ricei), sei (Balaenoptera borealis), and sperm (Physeter macrocephalus) whales, and Hawaiian monk seals (Neomonachus schauinslandi). Research may occur year-round during vessel or aircraft surveys, including unmanned aircraft systems, for counts, photography, video recording (above and underwater), photogrammetry, observations, passive acoustics, biological sampling (sloughed skin, exhaled air, feces, and skin and blubber biopsy), and tagging (suction-cup, dart, and deep-implant). Parts collected may be exported and imported for analysis. See the application for complete numbers of animals requested by species, age-class, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 23, 2024.
Amy Sloan,
Acting Chief, Permits and Conservation Division, Office of Protected Resources, National Marine Fisheries Service.

[FR Doc. 2024-19440 Filed 8-28-24; 8:45 am]

BILLING CODE 3510-22-P